DEPARTMENT OF LABOR

Employment and Training Administration

[TA-W-41,372]

XESystems, Inc., East Rochester, New York; Notice of Termination of Investigation

Pursuant to section 221 of the Trade Act of 1974, an investigation was initiated on April 22, 2002, in response to a worker petition, which was filed on behalf of workers at XESystems, Inc., East Rochester, New York.

A negative determination applicable to the petitioning group of workers was issued on March 29, 2002 (TA-W-40,974). No new information is evident which would result in a reversal of the Department's previous determination. Consequently, further investigation in this case would serve no purpose, and the investigation has been terminated.

Signed in Washington, DC this 13th day of May, 2002.
Linda G. Poole,
Certifying Officer, Division of Trade Adjustment Assistance.

[FR Doc. 02-15449 Filed 6-18-02; 8:45 am]

BILLING CODE 4510-30-P